DEPARTMENT OF THE INTERIOR

National Park Service

[N6557; NPS-WASO-NAGPRA-NPS0041146; PPWOCRADN0-PCU00RP14.R50000]

Notice of Inventory Completion: U.S. Department of the Interior, National Park Service, Chesapeake and Ohio Canal National Historical Park, Williamsport, MD

AGENCY: National Park Service, Department of the Interior.

ACTION: Notice.

SUMMARY: In accordance with the Native American Graves Protection and Repatriation Act, the U.S. Department of the Interior, National Park Service, Chesapeake and Ohio Canal National Historical Park (CHOH) has completed an inventory of human remains and has determined that there is a cultural affiliation between the human remains and Indian Tribes in this notice.

DATES: Repatriation of the human remains in this notice may occur on or after October 27, 2025.

ADDRESSES: Send written requests for repatriation of the human remains in this notice to Edward Wenschhof, Acting Superintendent, Chesapeake and Ohio Canal National Historical Park, 142 West Potomac Street, Williamsport, MD 21795, email ed_wenschhof@nps.gov.

SUPPLEMENTARY INFORMATION: This notice is published as part of the National Park Service's administrative responsibilities under NAGPRA. The determinations in this notice are the sole responsibility of the Acting Superintendent, CHOH, and additional information on the determinations in this notice, including the results of consultation, can be found in the inventory or related records.

Abstract of Information Available

Human Remains representing, at least, one individual have been identified. No associated funerary objects are present. In 1982, the NPS funded an archeological investigation of the Moore Farm property (Tract 51-136) in Oldtown, Allegany County, Maryland. A human sacrum representing a single individual was recovered. The investigations resulted in the formal designation of an archeological site (18AG43; Moore Village Site), which included a palisaded village. Organic materials from the Moore Village Site were radiocarbon-dated between 1419-1587 (modelled Median Start and End Date). Dr. Douglas W. Owsley of the Department of Anthropology, National Museum of Natural History, Smithsonian Institution in Washinton, DC identified the sacrum and determined it was from a human female, approximately 30-40 years of age.

Cultural Affiliation

Based on the information available and the results of consultation, cultural affiliation is reasonably identified by the geographic location or acquisition history of the human remains described in this notice.

Determinations

CHOH has determined that:

• The human remains described in this notice represent the physical remains of one individual of Native American ancestry.

• There is a connection between the human remains described in this notice and the Absentee-Shawnee Tribe of Indians of Oklahoma; Eastern Shawnee Tribe of Oklahoma; Monacan Indian Nation; Seneca-Cayuga Nation; and the Shawnee Tribe.

Requests for Repatriation

Written requests for repatriation of the human remains in this notice must be sent to the authorized representative identified in this notice under ADDRESSES. Requests for repatriation may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization.

Repatriation of the human remains described in this notice to a requestor may occur on or after October 27, 2025. If competing requests for repatriation are received, CHOH must determine the most appropriate requestor prior to repatriation. Requests for joint repatriation of the human remains are considered a single request and not competing requests. CHOH is responsible for sending a copy of this notice to the Indian Tribes identified in this notice.

Authority: Native American Graves Protection and Repatriation Act, 25 U.S.C. 3003, and its implementing regulations, 43 CFR 10.10.

Dated: September 11, 2025.
Melanie O'Brien,
Manager, National NAGPRA Program.

[FR Doc. 2025-18584 Filed 9-24-25; 8:45 am]

BILLING CODE 4312-52-P